DEPARTMENT OF TRANSPORTATION

National Highway Traffic Safety Administration

[Docket No. NHTSA-2013-0143; Notice 2]

General Motors LLC (GM), Grant of Petition for Decision of Inconsequential Noncompliance

AGENCY: National Highway Traffic Safety Administration (NHTSA), Department of Transportation (DOT).

ACTION: Grant of Petition.

SUMMARY: General Motors LLC (GM) has determined that certain model year (MY) 2010-2014 Cadillac SRX multipurpose passenger vehicles (MPVs) do not fully comply with paragraphs S4.4.1(a) and S4.4.2(a) of Federal Motor Vehicle Safety Standard (FMVSS) No. 110, Tire selection and rims and motor home/recreation vehicle trailer load carrying capacity information for motor vehicles with a GVWR of 4,536 kilograms (10,000 pounds) or less. GM filed a report dated November 27, 2013 pursuant to 49 CFR part 573, Defect and Noncompliance Responsibility and Reports. GM then petitioned NHTSA in accordance with 49 CFR part 556 requesting a decision that the subject noncompliance is inconsequential to motor vehicle safety.

ADDRESSES: For further information on this decision contact Amina Fisher, Office of Vehicle Safety Compliance, National Highway Traffic Safety Administration (NHTSA), telephone (202) 366-5307, facsimile (202) 366-5930.

SUPPLEMENTARY INFORMATION:

I. GM's Petition: Pursuant to 49 U.S.C. 30118(d) and 30120(h) and the rule implementing those provisions at 49 CFR part 556, GM submitted a petition dated December 5, 2013, for an exemption from the notification and remedy requirements of 49 U.S.C. Chapter 301 on the basis that this noncompliance is inconsequential to motor vehicle safety.

Notice of receipt of GM's petition was published, with a 30-Day public comment period, on June 6, 2014 in the Federal Register (79 FR 32813). No comments were received. To view the petition and all supporting documents log onto the Federal Docket Management System (FDMS) Web site at: http://www.regulations.gov/. Then follow the online search instructions to locate docket number “NHTSA-2013-0143.”

II. Vehicles Involved: Affected are approximately 51,704 MY 2010-2014 GM Cadillac SRX MPVs manufactured between June 18, 2009, and October 31, 2013.

III. Noncompliance: GM explains that the affected vehicles were offered for sale with spare tires whose rims were marked with a “T” to indicate the source of the rim's published nominal dimensions as the Tire and Rim Association, rather than the correct “E” to indicate the European Tyre and Rim Technical Organization (ETRTO). Additionally, the ETRTO does not identify the 18 inch rim utilized as a suitable match for the T135/70R18 spare tire. Since all vehicles sold in the U.S. must be marked with a reference designation that indicates the source of the rim's published nominal dimensions, and the indicated source must list suitable rim sizes for each tire size listed, these vehicles fail to fully meet the requirements set forth in paragraph S4.4.1(a) and S4.4.2(a) of FMVSS No. 110.

IV. Rule Text: Paragraph S4.4 of FMVSS No. 110 requires in pertinent part:

. . .

S4.4.1 Requirements. Each rim shall:

(a) Be constructed to the dimensions of a rim that is listed by the manufacturer of the tires as suitable for use with those tires, in accordance with S4 of § 571.139.

. . .

S4.4.2 Rim markings for vehicles other than passenger cars. Each rim or, at the option of the manufacturer in the case of a single-piece wheel, each wheel dish shall be marked with the information listed in S4.4.2 (a) through (e) . . .

(a) A designation that indicates the source of the rim's published nominal dimensions, as follows:

(1) “T” indicates The Tire and Rim Association.

(2) “E” indicates The European Tyre and Rim Technical Organization.

. . .

V. Summary of GM's Analyses: GM stated its belief that the subject noncompliance is inconsequential to motor vehicle safety for the following reasons:

1. The tire and rim of the affected spare wheels are properly matched and are appropriate for the load-carrying characteristics of the subject vehicles.

2. The incorrect reference document marking has no effect on the performance of the tire/rim combination.

3. The subject tire/rim assembly meets the S4.4.1(b) rapid air loss requirement for FMVSS No. 110. The subject vehicles also meet GM's internal ride and handling guidelines with the subject spare tire/rim assembly installed.

4. All other rim marking information required by S4.4.2 of FMVSS No. 110 on the subject rims is correct. The rims are marked with the rim size designation as required by S4.4.2(b); the DOT symbol as required by S4.4.2(c); manufacturer identification as required by S4.4.2(d); and the month and year of manufacture as required by S4.4.2(e).

5. The rim is marked correctly with the size designation of 18 x 4.5B, the correct tire size information is listed on the Tire and Loading Information placard, and the tire size (T135/70R18) is marked on the tire sidewall. The vehicles' Certification label also contains the correct tire and rim sizes. There is little likelihood of a tire and rim mismatch as a result of the incorrect marking of the source of the published rim dimensions.

6. Very few of these spare wheels will ever need to be replaced over the lifetime of the vehicle. If a spare wheel needs to be replaced, however, there is a section of the owner's manual provided on “Wheel Replacement.” It is stated here that “Your dealer will know the kind of wheel that is needed. Each new wheel should have the same load-carrying capacity, diameter, width, offset, and be mounted the same way as the one it replaces.”

7. If a spare wheel needs to be replaced, it is likely that the customer would go to a GM dealer or a tire/wheel retailer. These facilities would know to look at the original spare wheel, the tire, the Tire and Loading Information placard, or the Certification label to determine the correct spare wheel size for the replacement.

8. NHTSA has previously granted several inconsequential petitions with similar FMVSS No. 110 rim noncompliances.

9. GM is not aware of any crashes, injuries or customer complaints associated with this condition.

GM has additionally informed NHTSA that it has corrected the noncompliance so that all future production of the subject vehicles will comply with all applicable requirements of FMVSS No. 110.

In summation, GM believes that the described noncompliance of the subject vehicles is inconsequential to motor vehicle safety, and that its petition, to exempt from providing recall notification of noncompliance as required by 49 U.S.C. 30118 and remedying the recall noncompliance as required by 49 U.S.C. 30120 should be granted.

NHTSA's Decision

NHTSA's Analysis: GM stated its belief that the combination of the subject spare tire and rim is a proper match and appropriate for the load-carrying characteristics of the subject vehicles. GM also stated its belief that the incorrect marking of the nominal rim dimension source designation on the rim has no effect on the performance of the tire/rim combination. In addition, GM mentioned that the subject vehicles meet the S4.4.1(b) rapid air loss requirement for FMVSS No. 110.

The agency agrees with GM that the subject vehicles are equipped with an appropriately matched spare tire and rim combination that when properly mounted on the subject vehicles would allow the vehicles to be operated safely within the manufacturer's specified performance and loading limits. We note that the main purpose of FMVSS No. 110 is to require vehicles be equipped with tires and rims appropriate for the safe operation and loading of applicable vehicles. It appears the spare tire and rim combination provided with the subject vehicles will meet all applicable FMVSS No. 110 performance requirements.

GM also explained its belief that all other markings required by paragraph S4.4.2 of FMVSS No. 110 are on the subject rims and meet the applicable requirements of the standard. Those markings include; the rim size designation required by S4.4.2(b); the DOT symbol as required by S4.4.2(c); the manufacturer identification as required by S4.4.2(d); and the month and year of manufacture as required by S4.4.2(e). GM also stated that the correct tire size information is listed on the Certification label as well as the Tire and Loading Information placard affixed to each vehicle, and that the tire sizes are marked on the sidewalls of the tires.

While NHTSA requires manufacturers to include the reference document designation symbol to be marked on the rim, its mislabeling in this case does not prevent the proper matching of tires and rims. We agree with GM that sufficient information about rim size is available from other markings on the rims as well as information available from the Certification label required by 49 CFR part 567, and the Tire and Loading Information placard required by FMVSS No. 110. In addition, the mislabeling does not affect the ability to identify the rims in the event of recall. NHTSA believes that due to the convenient availability of tire and rim size designation information there is little likelihood of a tire and rim mismatch as a result of the subject rim marking noncompliance.

GM stated its belief that very few spare wheels need to be replaced during the life of the vehicle. If, however, wheel replacement is required, there is a section of the owner's manual provided with each vehicle titled “Wheel Replacement.” This section of the owner's manual states, “Your dealer will know the kind of wheel that is needed. Each new wheel should have the same load-carrying capacity, diameter, width, offset, and be mounted the same way as the one it replaces.” In addition, it is likely that the customer would go to a GM dealer or a tire/wheel retailer to obtain a replacement.

NHTSA agrees with GM that if a vehicle owner or operator must replace one of the subject rims that they would most likely go to a GM dealer or a tire/wheel retailer. As professionals, technicians at either type of facility would know to look at the original spare wheel, the tire, the Tire and Loading Information placard, or the Certification label to determine the correct spare wheel size for the replacement.

GM cited five petitions that the agency granted regarding wheels that omit the designation symbol that indicates the source of the rim's published nominal dimensions. All five cited petitions were granted because the agency determined that there was no consequence to motor vehicle safety due to the omission of the designation symbol required by either FMVSS No. 110 S4.4.2(a) or FMVSS No. 120 S5.2. As in the case of the subject spare tire and rim combinations, sufficient information about rim size was available from other markings on the rims as well as the information from the Certification label and Tire and Loading Information placards present on the affected vehicles.

NHTSA's Decision: In consideration of the foregoing, NHTSA has decided that GM has met its burden of persuasion that the subject noncompliances with paragraph S4.4 FMVSS No. 110 are inconsequential to motor vehicle safety. Accordingly, GM's petition is hereby granted and GM is exempted from the obligation of providing notification of, and a remedy for, that noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the subject noncompliant vehicles that GM no longer controlled at the time it determined that the noncompliance existed. However, the granting of this petition does not relieve vehicle distributors and dealers of the prohibitions on the sale, offer for sale, or introduction or delivery for introduction into interstate commerce of the noncompliant vehicles under their control after GM notified them that the subject noncompliance existed.

Authority: (49 U.S.C. 30118, 30120: delegations of authority at 49 CFR 1.95 and 501.8).

Jeffrey M. Giuseppe,
Director, Office of Vehicle Safety Compliance.

[FR Doc. 2016-00449 Filed 1-12-16; 8:45 am]

BILLING CODE 4910-59-P